DEPARTMENT OF HEALTH AND HUMAN SERVICES

Centers for Medicare and Medicaid Services

[Document Identifier: CMS-R-215]

Agency Information Collection Activities: Submission For OMB Review; Comment Request

In compliance with the requirement of section 3506(c)(2)(A) of the Paperwork Reduction Act of 1995, the Centers for Medicare and Medicaid Services (CMS), Department of Health and Human Services, has submitted to the Office of Management and Budget (OMB) the following proposal for the collection of information. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Note: For this submission, CMS is requesting public comments on the information requirements in the Final Rule published October 11, 2000 for “Additional DMEPOS Supplier Standards” only. CMS made an error in the last PRA submission whereas the “Surety Bond” requirements were referenced. Please be advised that all Surety Bond requirements have been removed and are not to be commented on at this time.

Type of Information Collection Request: Revision of a currently approved collection; Title of Information Collection: Information Collection Requirements Referenced in 42 CFR 424.57: Additional DMEPOS Supplier Standards; Form No.: CMS-R-215 (OMB# 0938-0717); Use: The respondents for these information collection requirements are suppliers of durable medical equipment, prosthetics, orthotics and supplies (DMEPOS). CMS requires, upon request, documentation that the DMEPOS supplier has both advised beneficiaries that they may either rent or purchase inexpensive or routinely purchased equipment and discussed the purchase option for capped rental equipment. This criteria is necessary to determine if the supplier has met the supplier standards.; Frequency: Annually, On occasion; Affected Public: Business or other for-profit and Not-for-profit institutions; Number of Respondents: 65,400; Total Annual Responses: 35,000; Total Annual Hours: 280,000.

To obtain copies of the supporting statement for the proposed paperwork collections referenced above, access CMS's web site address at http://www.hcfa.gov/regs/prdact95.htm, or E-mail your request, including your address and phone number, to Paperwork@hcfa.gov, or call the Reports Clearance Office on (410) 786-1326. Written comments and recommendations for the proposed information collections must be mailed within 30 days of this notice directly to the OMB Desk Officer designated at the following address: OMB Human Resources and Housing Branch, Attention: Allison Eydt, New Executive Office Building, Room 10235, Washington, D.C. 20503.

Dated: September 18, 2001.
John P. Burke III,
CMS Reports Clearance Officer, CMS, Office of Information Services, Security and Standards Group, Division of CMS Enterprise Standards.

[FR Doc. 01-25388 Filed 10-9-01; 8:45 am]

BILLING CODE 4120-03-P